DEPARTMENT OF LABOR

Employment and Training Administration

Workforce Innovation and Opportunity Act; Native American Employment and Training Council

AGENCY: Employment and Training Administration, U.S. Department of Labor.

ACTION: Notice of meeting.

SUMMARY: Pursuant to Section 10(a)(2) of the Federal Advisory Committee Act (FACA) (Pub. L. 92-463), as amended, and Section 166(i)(4) of the Workforce Innovation and Opportunity Act (WIOA) [29 U.S.C. 3221(i)(4))], notice is hereby given of the next meeting of the Native American Employment and Training Council (Council), as constituted under WIOA.

DATES: The meeting will begin at 9:00 a.m., (Pacific Time) on Thursday, August 25, 2016, and continue until 5:00 p.m. that day. The meeting will reconvene at 9:00 a.m., on Friday, August 26, 2016, and adjourn at 4:00 p.m. that day. The period from 3:00 p.m. to 5:00 p.m. on August 25, 2016, will be reserved for participation and comment by members of the public.

ADDRESSES: The meeting will be held at the Peppermill, 2707 South Virginia Street, Reno, Nevada 89502.

FOR FURTHER INFORMATION CONTACT: Athena R. Brown, DFO, Division of Indian and Native American Programs, Employment and Training Administration, U.S. Department of Labor, Room S-4209, 200 Constitution Avenue NW., Washington, DC 20210. Telephone number (202) 693-3737 (VOICE) (this is not a toll-free number).

SUPPLEMENTARY INFORMATION: The meeting will be open to the public. Members of the public not present may submit a written statement on or before August 22, 2016, to be included in the record of the meeting. Statements are to be submitted to Athena R. Brown, Designated Federal Officer (DFO), U.S. Department of Labor, 200 Constitution Avenue NW., Room S-4209, Washington, DC 20210. Persons who need special accommodations should contact Craig Lewis at (202) 693-3384, at least two business days before the meeting. The formal agenda will focus on the following topics: (1) Implementation of the Workforce Innovation and Opportunity Act (WIOA); (2) Overview of WIOA and the Section 166 Program, (3) Performance Indicators and Discussion of Additional Measures; (4) Training and Technical Assistance; (5) Council and Workgroup Updates and Recommendations; (6) Strategic Objectives for Program Year 2017-2018; and (7) Public Comment.

Portia Wu,
Assistant Secretary, Employment and Training Administration.

[FR Doc. 2016-19112 Filed 8-10-16; 8:45 am]

BILLING CODE 4501-FR-P